DEPARTMENT OF COMMERCE

Economic Development Administration

13 CFR Chapter III

[Docket No.: 050729211-5211-01]

Economic Development Administration Reauthorization Act of 2004 Implementation; Public Hearing

AGENCY: Economic Development Administration, Department of Commerce.

ACTION: Notice of public hearing.

SUMMARY: In connection with the promulgation of its Interim Final Rule (the “IFR”), also published in this separate part, the Economic Development Administration (“EDA”) will hold a public hearing to receive public comments on the IFR.

DATES: Thursday, September 1, 2005, beginning at 3 p.m. (e.d.t.) and ending at approximately 5 p.m. (e.d.t.). All registration requests must be received by the Office of Chief Counsel, Economic Development Administration (see ADDRESSES), no later than 4 p.m. (e.d.t.) on August 29, 2005.

ADDRESSES: The hearing will take place in Room 4830 of the Herbert C. Hoover Building, 1401 Constitution Avenue, NW., Washington, DC 20230. All registration requests must be submitted to the Office of Chief Counsel, Economic Development Administration, Department of Commerce, Room 7005, 1401 Constitution Avenue, NW., Washington, DC 20230; telephone (202) 482-4687; facsimile (202) 482-5671; e-mail: edaregs@eda.doc.gov.

FOR FURTHER INFORMATION CONTACT: Office of Chief Counsel, Economic Development Administration, Department of Commerce, Room 7005, 1401 Constitution Avenue, NW., Washington, DC 20230; telephone (202) 482-4687; facsimile (202) 482-5671; e-mail: edaregs@eda.doc.gov. Please note that any correspondence sent by regular mail may be substantially delayed or suspended in delivery, since all regular mail sent to the Department of Commerce (the “Department”) is subject to extensive security screening.

SUPPLEMENTARY INFORMATION: On October 27, 2004, President Bush signed into law the Economic Development Administration Reauthorization Act of 2004 (Pub. L. 108-373) (the “2004 Act”). Since reauthorization, EDA has conducted a full scale review and revision of its regulations leading to the promulgation of the IFR. The IFR provides a 60-day notice and comment period for interested members of the public to submit written comments. Individuals wishing to submit written comments only should follow the procedures set forth in the IFR. By way of this notice, EDA will also hold a public hearing to receive oral comments from interested members of the public.

Public comments will be limited to five minutes in duration. Due to time limitations, there is a possibility that not all persons wishing to make comments will be able to do so. Individuals who wish to make comments must register in advance of the hearing on a first-come, first-served basis by submitting a registration request to the Office of Chief Counsel at the addresses listed in the ADDRESSES heading no later than 4 p.m. (e.d.t.) on August 29, 2005. The registration request must include a written statement summarizing the public comments and the following contact information: name, address, telephone and fax numbers, e-mail address and organizational affiliation (if any). Upon receipt of a registration request, EDA will contact the individual to schedule a specific public comment time slot.

All comments submitted to EDA, whether oral or written, will become part of EDA's official administrative record in connection with the promulgation of its revised regulations. EDA will not respond to questions asked or oral comments delivered at the public hearing. EDA will respond in writing to all written and oral comments received on the IFR when it promulgates a Final Rule following the 60 day notice and comment period.

For additional rules and guidance on the public hearing (including information on building security) or for a copy of the IFR, please visit EDA's Internet Web site at http://www.eda.gov or contact the Office of Chief Counsel.

Dated: July 29, 2005.
Benjamin Erulkar,
Chief Counsel, Economic Development Administration.

[FR Doc. 05-15471 Filed 8-10-05; 8:45 am]

BILLING CODE 3510-24-P